DEPARTMENT OF AGRICULTURE

Animal and Plant Health Inspection Service

9 CFR Part 56

[Docket No. APHIS-2009-0031]

RIN 0579-AD21

National Poultry Improvement Plan and Auxiliary Provisions; Correction

AGENCY: Animal and Plant Health Inspection Service, USDA.

ACTION: Correcting amendment.

SUMMARY: In a final rule that was published in the Federal Register on March 22, 2011, and effective on April 21, 2011, we amended the regulations for the control of H5/H7 low pathogenic avian influenza to simplify the list of types of poultry eligible for 100 percent indemnity, among other changes. This document corrects an error in our amendatory instructions accomplishing that change.

DATES: Effective Date: October 25, 2011.

FOR FURTHER INFORMATION CONTACT: Dr. C. Stephen Roney, DVM, Senior Staff Officer, NPIP, VS, APHIS, USDA, 1506 Klondike Road, Suite 300, Conyers, GA 30094-5104; (770) 922-3496.

SUPPLEMENTARY INFORMATION:

Background

In a final rule that was published in the Federal Register on March 22, 2011 (76 FR 15791-15798, Docket No. APHIS-2009-0031), and effective on April 21, 2011, we amended the National Poultry Improvement Plan (the Plan) and its auxiliary provisions by providing new or modified sampling and testing procedures for Plan participants and participating flocks. We also amended the regulations in 9 CFR part 56, which set out conditions for the payment of indemnity for costs associated with poultry that are infected with or exposed to the H5 or H7 subtypes of low pathogenic avian influenza.

In § 56.3, we simplified the list of types of poultry eligible for 100 percent indemnity in paragraph (b) by replacing former paragraphs (b)(1) through (b)(6) with new paragraphs (b)(1) and (b)(2) and redesignating former paragraph (b)(7) as paragraph (b)(3). However, our amendatory instructions for accomplishing this change neglected to remove former paragraph (b)(3), resulting in the presence of two paragraphs designated (b)(3) in the Code of Federal Regulations. This document corrects that error.

List of Subjects in 9 CFR Part 56

Animal diseases, Indemnity payments, Low pathogenic avian influenza, Poultry.

Accordingly, we are amending 9 CFR part 56 as follows:

PART 56—CONTROL OF H5/H7 LOW PATHOGENIC AVIAN INFLUENZA

1. The authority citation for part 56 continues to read as follows:

Authority: 7 U.S.C. 8301-8317; 7 CFR 2.22, 2.80, and 371.4.

§ 56.3 [Amended]

2. In § 56.3, the first paragraph (b)(3) is removed.

Done in Washington, DC, this 19th day of October 2011.
Kevin Shea,
Acting Administrator, Animal and Plant Health Inspection Service.

[FR Doc. 2011-27579 Filed 10-24-11; 8:45 am]

BILLING CODE 3410-34-P